DEPARTMENT OF AGRICULTURE

Rural Telephone Bank

Sunshine Act; Meetings

AGENCY: Rural Telephone Bank, USDA.

ACTION: Staff Briefing for the Board of Directors.

Time and Date: 2 p.m., Wednesday, May 4, 2005.

Place: Conference Room 104-A, Jamie L. Whitten Federal Building, U.S. Department of Agriculture, 12th & Jefferson Drive, SW., Washington, DC.

Status: Open.

Matters to be Discussed: 1. Program updates.

2. Administrative and other issues.

Action: Board of Directors Meeting.

Time and Date: 9 a.m., Thursday, May 5, 2005.

Place: Conference Room 104-A, Jamie L. Whitten Federal Building, U.S. Department of Agriculture, 12th & Jefferson Drive, SW., Washington, DC.

Status: Open.

Matters to be Considered: The following matters have been placed on the agenda for the Board of Directors meeting:

1. Call to order.

2. Action on Minutes of the January 26, 2005, board meeting.

3. Action on the Minutes of the March 11, 2005, special meeting.

4. Secretary's Report.

5. Treasurer's Report.

6. Discussion of FY 2006 budget proposal for dissolution.

7. Adjournment.

Contact Person for More Information: Jonathan Claffey, Acting Assistant Governor, Rural Telephone Bank, (202) 720-9554.

Dated: April 19, 2005.
Curtis Anderson,
Acting Governor, Rural Telephone Bank.

[FR Doc. 05-8245 Filed 4-20-05; 3:28 pm]

BILLING CODE 3410-15-P